DEPARTMENT OF HEALTH AND HUMAN SERVICES

Administration for Children and Families

Privacy Act of 1974, As Amended; Computer Matching Program

AGENCY: Office of Child Support Enforcement (OCSE), ACF, DHHS.

ACTION: Notice of a computer matching program.

SUMMARY: In compliance with the Privacy Act of 1974, as amended by Pub. L. 100-503, the Computer Matching and Privacy Protection Act of 1988, we are publishing a notice of a computer matching program that OCSE will conduct on behalf of itself and the District of Columbia Department of Human Services, Income Maintenance Administration (IMA) for verification of continued eligibility for Public Assistance. The match will utilize National Directory of New Hire (NDNH) records and IMA records. The purpose of the computer matching program is to exchange personal data for purposes of identifying individuals who are employed and also are receiving payments pursuant to the Temporary Aid to Needy Families (TANF) benefit program being administered by IMA.

DATES: OCSE will file a report of the subject OCSE matching program with the Committee on Governmental Affairs of the Senate and the Committee on Government Reform and Oversight of the House of Representatives and the Office of Information and Regulatory Affairs, the Office of Management and Budget (OMB). The matching program will be effective as indicated below.

ADDRESSES: Interested parties may comment on this notice by writing to the Director, Office of Federal Systems, Office of Child Support Enforcement, Aerospace Building, 370 L'Enfant Promenade, SW., Washington, DC 20047. All comments received will be available for public inspection at this address.

FOR FURTHER INFORMATION CONTACT: Director, Office of Federal Systems, Office of Child Support Enforcement, Aerospace Building, 370 L'Enfant Promenade, SW., Washington, DC 20047. Telephone Number (202) 401-9271.

SUPPLEMENTARY INFORMATION: Public Law 100-503, the Computer Matching and Privacy Protection Act of 1988, amended the Privacy Act (5 U.S.C. 552a) by adding certain protections for individuals applying for and receiving Federal benefits. The law regulates the use of computer matching by Federal agencies when records in a system of records are matched with other Federal, state and local government records.

The amendments require Federal agencies involved in computer matching programs to:

1. Negotiate written agreements with source agencies;

2. Provide notification to applicants and beneficiaries that their records are subject to matching;

3. Verify match findings before reducing, suspending, or terminating an individual's benefits or payments;

4. Furnish detailed reports to Congress and OMB; and

5. Establish a Data Integrity Board that must approve matching agreements.

This Computer Match meets the requirements of Pub. L. 100-503.

Dated: April 7, 2003.
Sherri Z. Heller,
Commissioner, Office of Child Support Enforcement.

Notice of Computer Matching Program

A. Participating Agencies

OCSE and IMA.

B. Purpose of the Match

To exchange personal data for purposes of identifying individuals who are employed and also are receiving payments pursuant to TANF benefit programs being administered by the IMA and to verify continuing eligibility for TANF benefits.

OCSE will match public assistance records, obtained from IMA, to the NDNH. After matching has been conducted, OCSE will provide matched data to IMA which will use this information to verify the continued eligibility of individuals to receive public assistance benefits and, if ineligible, to take such action, as may be authorized by law and regulation. Under the matching program, IMA will obtain data provided by OCSE.

C. Authority for Conducting the Match

The authority for conducting the matching program is contained in section 453(j)(3) of the Social Security Act (42 U.S.C. 653(j)(3)).

D. Records to be Matched

The system of records maintained by the ACF under the Privacy Act of 1974, as amended, 5 U.S.C. 552a, from which records will be disclosed for the purpose of this computer match, is the Location and Collection System of Records, DHHS/OCSE No. 09-90-0074, last published in the Federal Register at 65 FR 57817 on September 26, 2000. The match is a routine use under this system of records.

OCSE, as the source agency, will collect from IMA electronic files containing the names and other personal identifying data of eligible public assistance beneficiaries. Upon receipt of the electronic files of IMA beneficiaries, OCSE will perform a computer match against the NDNH. The NDNH database consists of Quarterly Wage, New Hire, and Unemployment Insurance information. The matches will be furnished by OCSE to IMA.

1. The electronic files provided by IMA will contain data elements of the client's name and SSN.

2. OCSE will match the SSN on the IMA file by computer against the NDNH database. Matching records, based on SSNs, will produce data elements of the individual's name; SSN; employer, and current work or home address, etc.

E. Inclusive Dates of the Matching Program

The effective date of the matching agreement and date when matching may actually begin shall be at the expiration of the 40-day review period for OMB and Congress, or 30 days after publication of the matching notice in the Federal Register, whichever date is later. By agreement between DHHS and IMA, the matching program will be in effect for 18 months from the effective date, with an option to renew for 12 additional months, unless one of the parties to the agreement advises the other by written request to terminate or modify the agreement.

[FR Doc. 03-9089 Filed 4-14-03; 8:45 am]

BILLING CODE 4184-01-M